DEPARTMENT OF THE INTERIOR

National Park Service

[NPS-WASO-NAGPRA-NPS0034135; PPWOCRADN0-PCU00RP14.R50000]

Notice of Inventory Completion: Tennessee Valley Authority, Knoxville, TN

AGENCY: National Park Service, Interior.

ACTION: Notice.

SUMMARY: The Tennessee Valley Authority (TVA) has completed an inventory of human remains in consultation with the appropriate Indian Tribes and Native Hawaiian organizations and has determined that there is no cultural affiliation between the human remains and any present-day Indian Tribes or Native Hawaiian organizations. Representatives of any Indian Tribe or Native Hawaiian organization not identified in this notice that wish to request transfer of control of these human remains should submit a written request to the TVA. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the TVA at the address in this notice by August 1, 2022.

FOR FURTHER INFORMATION CONTACT: Ms. Marianne Shuler, Tennessee Valley Authority, 400 West Summit Hill Drive, WT11C, Knoxville, TN 37902-1401, telephone (865) 253-1265, email mmshuler@tva.gov.

SUPPLEMENTARY INFORMATION: Notice is here given in accordance with the Native American Graves Protection and Repatriation Act (NAGPRA), 25 U.S.C. 3003, of the completion of an inventory of human remains under the control of the Tennessee Valley Authority, Knoxville, TN. The human remains were removed from site 1LA40 in Lawrence County, AL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by TVA professional staff in consultation with representatives of the Cherokee Nation; Eastern Band of Cherokee Indians; The Chickasaw Nation; and The Muscogee (Creek) Nation (hereafter referred to as “The Consulted Tribes”).

History and Description of the Remains

In 1934, human remains representing, at minimum, 130 individuals were removed by the Alabama Museum of Natural History (AMNH) at the University of Alabama from site 1LA40, a cave in Lawrence County, AL, as part of TVA's Wheeler Reservoir Project. Details regarding the excavation of this site may be found in “An Archaeological Survey of Wheeler Basin on the Tennessee River in Northern Alabama,” by William S. Webb. Excavation took place in five-foot squares by removing six-inch levels (Webb 1939:68). Layers of ash and burned clay floors were encountered during excavation. Most of the habitation appears to have been near the mouth of the cave. Webb indicated that all the human burials had been disturbed prior to excavation. According to him, “Human and animal remains were scattered throughout the deposits (1939:68).” The human remains listed in this notice have been in the physical custody of the AMNH since they were excavated. The age and sex of these individuals is undetermined, No known individuals were identified. No associated funerary objects are present.

There are no known radiocarbon dates for this site. Artifacts recovered suggest occupations during both the Archaic and Mississippian periods.

Determinations Made by the Tennessee Valley Authority

Officials of the Tennessee Valley Authority have determined that:

• Pursuant to 25 U.S.C. 3001(9), the human remains described in this notice are Native American based on their presence in a prehistoric archeological site and osteological analysis.

• Pursuant to 25 U.S.C. 3001(9), the human remains described in this notice represent the physical remains of 130 individuals of Native American ancestry.

• Pursuant to 25 U.S.C. 3001(2), a relationship of shared group identity cannot be reasonably traced between the human remains and any present-day Indian Tribe.

• According to final judgments of the Indian Claims Commission or the Court of Federal Claims, the land from which the associated funerary objects were removed is the aboriginal land of the Cherokee Nation; Eastern Band of Cherokee Indians; and the United Keetoowah Band of Cherokee Indians in Oklahoma.

• The Treaty of September 20, 1816, indicates that the land from which the Native American human remains were removed is the aboriginal land of The Chickasaw Nation.

• Pursuant to 43 CFR 10.11(c)(1), disposition of the human remains may be to the Cherokee Nation; Eastern Band of Cherokee Indians; The Chickasaw Nation; and the United Keetoowah Band of Cherokee Indians in Oklahoma (hereafter referred to as “The Tribes”).

Additional Requestors and Disposition

Representatives of any Indian Tribe or Native Hawaiian organization not identified in this notice that wish to request transfer of control of these human remains should submit a written request with information in support of the request to Ms. Marianne Shuler, Tennessee Valley Authority, 400 West Summit Hill Drive, WT11C, Knoxville, TN 37902-1401, telephone (865) 253-1265, email mmshuler@tva.gov, by August 1, 2022. After that date, if no additional requestors have come forward, transfer of control of the human remains to The Tribes may proceed.

The Tennessee Valley Authority is responsible for notifying The Tribes and The Consulted Tribes that this notice has been published.

Dated: June 22, 2022.
Melanie O'Brien,
Manager, National NAGPRA Program.

[FR Doc. 2022-14095 Filed 6-30-22; 8:45 am]

BILLING CODE 4312-52-P